DEPARTMENT OF THE INTERIOR

Fish and Wildlife Service

Notice of Availability of a Revised Environmental Assessment/Habitat Conservation Plan Related to Application for an Incidental Take Permit for the Magic Carpet Woods Association Project, Leelanau Township, Leelanau County, Michigan

AGENCY: Fish and Wildlife Service, Interior.

ACTION: Notice of availability; correction.

SUMMARY: This document corrects the Internet address listed in a document published in the Federal Register on November 13, 2000, regarding the notice of availability of a revised draft Environmental Assessment (EA) and Habitat Conservation Plan (HCP) for an Incidental Take Permit for the Magic Carpet Woods Association Project, Leelanau Township, Leelanau County, Michigan.

FOR FURTHER INFORMATION CONTACT: Peter Fasbender, (612) 713-5343, peter fasbender@fws.gov.

Correction

In the document announcing the notice of availability of draft EA and HCP for incidental take for the piping plover, FR 00-28900, beginning on page 67753 in the issue of November 13, 2000, make the following correction in the ADDRESSES section. At the end of the 1st paragraph in ADDRESSES section on page 67753, correct the Internet address to “http://midwest.fws.gov/nepa” from “www/midwest.fws.gov/nepa”.

Dated: November 14, 2000.
T.J. Miller,
Acting, Assistant Regional Director, Ecological Services, Region 3, Fort Snelling, Minnesota.

[FR Doc. 00-29565 Filed 11-17-00; 8:45 am]

BILLING CODE 4310-55-P